DEPARTMENT OF THE INTERIOR

Office of the Secretary

43 CFR Part 8

[Docket No. DOI-2024-0017; 256D0102DM, DS6CS00000, DLSN00000.000000, DX6CS25]

RIN 1093-AA29

Joint Policies of the Departments of the Interior and of the Army Relative to Reservoir Project Lands; Delay of Effective Date

AGENCY: Office of the Secretary, Interior.

ACTION: Direct final rule; delay of effective date.

SUMMARY: In accordance with the memorandum of January 20, 2025, from President Donald J. Trump, entitled “Regulatory Freeze Pending Review,” this action delays the effective date of the direct final rule published on January 16, 2025, to May 16, 2025.

DATES: As of April 16, 2025 the effective date of the rule published at 90 FR 4669 on January 16, 2025, is delayed to a new effective date of May 16, 2025.

FOR FURTHER INFORMATION CONTACT: Jeremiah Williamson, Senior Attorney, telephone: (208) 334-1915, email: jeremiah.williamson@sol.doi.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The direct final rule, “Joint Policies of the Departments of the Interior and of the Army Relative to Reservoir Project Lands,” published on January 16, 2025, at 90 FR 4669, included a 60-day public comment period that ended on March 17, 2025. The effective date of the direct final rule is April 16, 2025. The Department of the Interior is taking this action in response to Memorandum M-25-10, “Implementation of Regulatory Freeze,” of January 20, 2025, from the Executive Office of the President, Office of Management and Budget, regarding the postponement of effective dates of certain published regulations. The memorandum directed the heads of executive departments and agencies to consider postponing for 60 days from the date of the memorandum the effective date for any rules that have been published in the Federal Register, or any rules that have been issued in any manner but have not taken effect, for the purpose of reviewing any questions of fact, law, and policy that the rule may raise. The Department of the Interior is delaying the effective date of the direct final rule published at 90 FR 4669 to May 16, 2025.

The Department is delaying the effective date of the direct final rule without opportunity for public comment and making the delay effective immediately, based on the good cause exemptions in 5 U.S.C. 553(b)(B) and 553(d)(3). The Department concluded that seeking public comment on the delay is impracticable, unnecessary, and contrary to the public interest. The delay in effective date until May 16, 2025, is necessary to give Department officials the opportunity for further review and consideration of new regulations, consistent with the memorandum of the President, dated January 20, 2025. Given the imminence of the effective date of the direct final rule, seeking prior public comment on this delay is impractical, and contrary to the public interest in the orderly promulgation and implementation of regulations. For the foregoing reasons, the good cause exception in 5 U.S.C. 553(d)(3) also applies to the Department's decision to make this action effective immediately.

Tyler Hassen,
Senior Advisor to the Secretary, Exercising the Delegated Authority of the Assistant Secretary for Policy, Management and Budget

[FR Doc. 2025-06480 Filed 4-15-25; 8:45 am]

BILLING CODE 4334-CC-P